DEPARTMENT OF STATE

[Public Notice Number: 7005]

U.S. Advisory Commission on Public Diplomacy; Notice of Meeting

The U.S. Advisory Commission on Public Diplomacy will hold a public meeting on July 20, 2010 from 9 a.m. to 11 a.m. in the conference room of the International Foundation for Electoral Systems (IFES) located at 1850 K Street, NW., Fifth Floor, Washington, DC 20006.

The Commissioners will discuss public diplomacy issues, including measurement of U.S. government public diplomacy efforts.

The Advisory Commission was originally established under Section 604 of the United States Information and Exchange Act of 1948, as amended (22 U.S.C. 1469) and Section 8 of Reorganization Plan Numbered 2 of 1977. It was reauthorized pursuant to Public Law 11-70 (2009), 22 U.S.C. 6553.

The Advisory Commission is a bipartisan panel created by Congress to assess public diplomacy policies and programs of the U.S. government and publicly funded nongovernmental organizations. The Commission reports its findings and recommendations to the President, the Congress and the Secretary of State and the American people. Current Commission members include William Hybl of Colorado, who serves as Chairman; Jay Snyder of New York; Penne Korth Peacock of Texas; Lyndon Olson of Texas; John Osborn of Pennsylvania; and Lezlee Westine of Virginia.

The public may attend this meeting as seating capacity allows. To attend this meeting and for further information, please contact Gerald McLoughlin at (202) 632-6570, e-mail: acpdmeeting@state.gov. Any member of the public requesting reasonable accommodation at this meeting should contact Mr. McLoughlin prior to July 15th. Requests received after that date will be considered, but might not be possible to fulfill.

Dated: June 24, 2010.
Carl Chan,
Executive Director, ACPD.

[FR Doc. 2010-15895 Filed 6-29-10; 8:45 am]

BILLING CODE 4710-11-P